FEDERAL COMMUNICATIONS COMMISSION

47 CFR Part 73

[DA 19-885]

Radio Broadcasting Services; Various Locations

AGENCY: Federal Communications Commission.

ACTION: Final rule.

SUMMARY: This document amends the FM Table of Allotments, of the Commission's rules, by reinstating certain vacant FM allotments. These FM allotments are considered vacant because of the cancellation of the associated authorizations and licenses, or the dismissal of long-form auction applications. Theses vacant FM allotments have previously undergone notice and comment rule making. Reinstatement of the vacant allotments is merely a ministerial action to effectuate licensing procedures. Therefore, we find for good cause that further notice and comment are unnecessary.

DATES: Effective September 23, 2019.

FOR FURTHER INFORMATION CONTACT: Rolanda F. Smith, Media Bureau, (202) 418-2700.

SUPPLEMENTARY INFORMATION: This is a synopsis of the Commission's Order, adopted September 5, 2019 and released September 6, 2019. The full text of this Commission decision is available for inspection and copying during normal business hours in the FCC's Reference Information Center at Portals II, CY-A257, 445 12th Street SW, Washington, DC 20554. The full text is also available online at http://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the Order is a ministerial action.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, the table in paragraph (b) is amended as follows:

a. By adding an undesignated center heading “US States” before Alabama;

b. Under Alabama by adding an entry for “Hamilton” in alphabetical order;

c. Under Arizona by adding an entry for “Aguila” in alphabetical order and revising the entry for “Bagdad”;

d. Under California by adding an entry for “Sacramento” in alphabetical order;

e. Under Massachusetts by adding an entry for “Orange” in alphabetical order;

f. Under Texas by revising the entries for “Marathon” and “Mason” and revising the entry for “Roby”; and

g. By adding an undesignated center heading “US Territories” before American Samoa.

The additions and revisions read as follows:

§ 73.202 Table of Allotments.

* * * * *

(b) * * *

Table 1 to Paragraph (b)
[US States]
| Channel No.
ALABAMA
* * * * *
Hamilton | 221A
* * * * *
ARIZONA
Aguila | 297C2
Bagdad | 299C3
* * * * *
CALIFORNIA
Sacramento | 300B
* * * * *
MASSACHUSETTS
Orange | 247A
* * * * *
TEXAS
* * * * *
Marathon | 276C1
Mason | 281C2, 239C2
* * * * *
Roby | 290A
* * * * *
U.S. Territories
* * * * *

[FR Doc. 2019-20210 Filed 9-20-19; 8:45 am]

BILLING CODE 6712-01-P